DEPARTMENT OF THE TREASURY

Customs Service

Suspension of Operations and Development of the General Test Regarding the International Trade Prototype

AGENCY: U.S. Customs Service, Department of the Treasury.

ACTION: General notice.

SUMMARY: This notice announces that Customs is suspending operations and development of the general test regarding the International Trade Prototype (ITP) due to lack of funding. The ITP was most recently announced in the Federal Register on July 27, 1999. Upon prototype suspension, ITP participants must cease entering goods and transmitting data under ITP procedures. This notice identifies instructions to participants on procedures for processing outstanding prototype entries.

DATES: Suspension of the ITP will be effective as of April 12, 2000.

FOR FURTHER INFORMATION CONTACT: Comments regarding the suspension of this prototype should be directed to Daniel Buchanan, U.S. Customs Service at (617) 565-6236, or Pamela McGuyer, U.S. Customs Service at (202) 927-0279.

SUPPLEMENTARY INFORMATION:

Background

The ITP concept has been under consideration by both the U.S. Customs Service (USCS) and Her Majesty's Custom and Excise (HMCE) since 1996. The nucleus of this program is an extension of ideas developed in partnership with the trade community by various members of the Trans-Atlantic Team, primarily comprised of USCS and HMCE officers. The ITP concept also addressed issues raised by international traders, the World Customs Organization (WCO), the United Nations Conference on Trade and Development (UNCTAD), G-7 and other international organizations.

The concept was intended to simplify and standardize Customs processes and procedures in order to facilitate trade while maintaining effective and efficient control.

Additional information on the ITP has been published in the Federal Register (63 FR 68353 on December 31, 1997; 63 FR 30288 on June 3, 1998); and (64 FR 40643 on July 27, 1999).

This notice serves to inform the public that the ITP test announced in the aforementioned Notices is suspended due to lack of funding.

Procedures

The ITP system involves initiation of import clearance processing on the basis of an Inter-Customs Advice (ICA) message sent from the export customs authority to the import customs authority.

For all outstanding ITP U.S. import shipments for which an ICA message from HMCE has been received prior to the date of publication of this Notice, USCS will complete processing under ITP procedures. All processing for such shipments must be completed within 30 days following the date of publication of this Notice.

On or after the date of publication of this Notice, USCS will no longer process ICA messages for either U.S. exports or U.S. imports. Participants must revert to non-ITP processing for all cargo shipments.

Dated: March 8, 2000.
Robert J. McNamara,
Acting Assistant Commissioner, Office of Field Operations.

[FR Doc. 00-6114 Filed 3-10-00; 8:45 am]

BILLING CODE 4820-02-P